DEPARTMENT OF COMMERCE

National Oceanic and Atmospheric Administration

[I.D. 032707C]

Endangered Species; Permit No. 1589

AGENCY: National Marine Fisheries Service (NMFS), National Oceanic and Atmospheric Administration (NOAA), Commerce.

ACTION: Notice; Issuance of a permit.

SUMMARY: Notice is hereby given that The Riverbanks Zoo and Garden, 500 Wildlife Parkway, P.O. Box 1060, Columbia, SC 29202-1060 [Charles Scott Pfaff, Responsible Party] has been issued a permit to take shortnose sturgeon (Acipenser brevirostrum) for purposes of enhancement.

ADDRESSES: The permit and related documents are available for review upon written request or by appointment in the following offices:

Permits, Conservation and Education Division, Office of Protected Resources, NMFS, 1315 East-West Highway, Room 13705, Silver Spring, MD 20910; phone (301) 713-2289; fax (301) 427-2521; and

Southeast Region, NMFS, 263 13th Avenue South, St. Petersburg, FL 33701; phone (727) 824-5312; fax (727) 824-5309.

FOR FURTHER INFORMATION CONTACT: Kate Swails or Jennifer Skidmore at (301)713-2289.

SUPPLEMENTARY INFORMATION: The requested permit has been issued under the authority of the Endangered Species Act of 1973, as amended (ESA; 16 U.S.C. 1531 et seq.) and the regulations governing the taking, importing, and exporting of endangered and threatened species (50 CFR parts 222-226).

On September 20, 2006, notice was published in the Federal Register (71 FR 54979) that a request for an enhancement permit to take shortnose sturgeon had been submitted by the above mentioned organization. The Riverbanks Zoo and Garden will obtain and maintain a total of eight captive-bred, non-releaseable adult shortnose sturgeon. This sturgeon display will be used to increase public awareness of the shortnose sturgeon and its status. The proposed project will educate the public on shortnose sturgeon life history and the reasons for the species decline. The proposed project to display endangered cultured shortnose sturgeon responds directly to a recommendation from the NMFS recovery plan outline for this species. The permit is issued for 5 years.

Issuance of this permit, as required by the ESA, was based on a finding that the permit (1) Was applied for in good faith, (2) will not operate to the disadvantage of such endangered or threatened species, and (3) is consistent with the purposes and policies set forth in section 2 of the ESA.

Dated: April 5, 2007.
P. Michael Payne,
Chief, Permits, Conservation and Education Division, Office of Protected Resources, National Marine Fisheries Service.

[FR Doc. E7-6880 Filed 4-10-07; 8:45 am]

BILLING CODE 3510-22-S